ENVIRONMENTAL PROTECTION AGENCY

[FRL-9087-1]

Recent Posting to the Applicability Determination Index (ADI) Database System of Agency Applicability Determinations, Alternative Monitoring Decisions, and Regulatory Interpretations Pertaining to Standards of Performance for New Stationary Sources, National Emission Standards for Hazardous Air Pollutants, and the Stratospheric Ozone Protection Program

AGENCY: Environmental Protection Agency (EPA).

ACTION: Notice of availability.

SUMMARY: This notice announces applicability determinations, alternative monitoring decisions, and regulatory interpretations that EPA has made under the New Source Performance Standards (NSPS); the National Emission Standards for Hazardous Air Pollutants (NESHAP); and the Stratospheric Ozone Protection Program.

FOR FURTHER INFORMATION CONTACT: An electronic copy of each complete document posted on the Applicability Determination Index (ADI) database system is available on the Internet through the Office of Enforcement and Compliance Assurance (OECA) Web site at:

http://www.epa.gov/compliance/monitoring/programs/caa/adi.html. The document may be located by control number, date, author, subpart, or subject search. For questions about the ADI or this notice, contact Rebecca Kane at EPA by phone at: (202) 564-5960, or by e-mail at: kane.rebecca@epa.gov. For technical questions about the individual applicability determinations or monitoring decisions, refer to the contact person identified in the individual documents, or in the absence of a contact person, refer to the author of the document.

SUPPLEMENTARY INFORMATION:

Background

The General Provisions to the NSPS in 40 Code of Federal Regulations (CFR) part 60 and the General Provisions to the NESHAP in 40 CFR part 61 provide that a source owner or operator may request a determination of whether certain intended actions constitute the commencement of construction, reconstruction, or modification. EPA's written responses to these inquiries are commonly referred to as applicability determinations. See 40 CFR 60.5 and 61.06. Although the part 63 NESHAP [which includes Maximum Achievable Control Technology (MACT) standards] and section 111(d) of the Clean Air Act (CAA) regulations contain no specific regulatory provision providing that sources may request applicability determinations, EPA also responds to written inquiries regarding applicability for the part 63 and section 111(d) programs. The NSPS and NESHAP also allow sources to seek permission to use monitoring or recordkeeping that is different from the promulgated requirements. See 40 CFR 60.13(i), 61.14(g), 63.8(b)(1), 63.8(f), and 63.10(f). EPA's written responses to these inquiries are commonly referred to as alternative monitoring decisions. Furthermore, EPA responds to written inquiries about the broad range of NSPS and NESHAP regulatory requirements as they pertain to a whole source category. These inquiries may pertain, for example, to the type of sources to which the regulation applies, or to the testing, monitoring, recordkeeping, or reporting requirements contained in the regulation. EPA's written responses to these inquiries are commonly referred to as regulatory interpretations.

EPA currently compiles EPA-issued NSPS and NESHAP applicability determinations, alternative monitoring decisions, and regulatory interpretations, and posts them on the ADI on a quarterly basis. In addition, the ADI contains EPA-issued responses to requests pursuant to the stratospheric ozone regulations, contained in 40 CFR part 82. The ADI is an electronic index on the Internet with over one thousand EPA letters and memoranda pertaining to the applicability, monitoring, recordkeeping, and reporting requirements of the NSPS, NESHAP, and stratospheric ozone regulations. The letters and memoranda may be searched by date, office of issuance, subpart, citation, control number, or by string word searches.

Today's notice comprises a summary of 39 such documents added to the ADI on November 20, 2009. The subject and header of each letter and memorandum are listed in this notice, as well as a brief abstract of the letter or memorandum. Complete copies of these documents may be obtained from the ADI through the OECA Web site at: www.epa.gov/compliance/monitoring/programs/caa/adi.html.

Summary of Headers and Abstracts

The following table identifies the database control number for each document posted on the ADI database system on November 20, 2009; the applicable category; the subpart(s) of 40 CFR part 60, 61, or 63 (as applicable) covered by the document; and the title of the document, which provides a brief description of the subject matter.

We have also included an abstract of each document identified with its control number after the table. These abstracts are provided solely to alert the public to possible items of interest and are not intended as substitutes for the full text of the documents. This notice does not change the status of any document with respect to whether it is “of nationwide scope or effect” for purposes of section 307(b)(1) of the Clean Air Act. For example, this notice does not make an applicability determination for a particular source into a nationwide rule. Neither does it purport to make any document that was previously non-binding into a binding document.

ADI Determinations Uploaded on November 20, 2009
Control No. | Category | Subparts | Title
0900038 | NSPS | Dc | Boiler Derate Request.
0900039 | NSPS | VV | Alternative Monitoring for Equipment in Acetic Acid Service.
0900040 | NSPS | G | Alternative Monitoring for Certifying NOX CEMS.
0900041 | NSPS | WWW | Alternative Monitoring for Gas Collection and Control System.
0900042 | NSPS | Dc | Boiler Derate Request.
0900043 | NSPS | Db | Alternative Opacity Monitoring.
0900044 | NSPS | Db | Alternative Monitoring Using NOX PEMS.
0900045 | NSPS | WWW | Alternative Temperature Limits for Gas Collection Wells.
0900046 | NSPS | D | Alternative Monitoring Using PM CEMS.
0900047 | NSPS | OOO | Delay of Initial PM Performance Test.
0900048 | NSPS | PPP | Alternative Monitoring for Wet Electrostatic Precipitator.
0900049 | NSPS | WWW | Extension of Deadline to Correct Positive Pressure Exceedances.
0900050 | NSPS | J | Alternative Monitoring of Fuel Gas Stream.
0900052 | NSPS | WWW | Gas Collection Well Reconfiguration.
0900053 | NSPS | VV | Alternative Monitoring for Equipment in Diketene Service.
0900054 | NSPS | Db | Alternative Monitoring Using NOX PEMS.
0900056 | NSPS | OOO | Crusher Derate.
0900057 | NSPS | A, RR | Replacement of Regenerative Thermal Oxidizer.
0900058 | NSPS | WWW | Gas Treatment System.
0900059 | NSPS | WWW | Alternative Compliance and Monitoring Timelines.
0900060 | NSPS | WWW | Gas Treatment System.
0900061 | NSPS | WWW | Gas Treatment System.
0900062 | NSPS | WWW | Extension to Correct Positive Pressure Exceedance.
0900063 | NSPS | WWW | Gas Treatment System.
0900064 | NSPS | WWW | Adjusted Oxygen and Pressure Standards/Alternative Compliance Timeline.
0900067 | NSPS | GG, KKKK | Gas Turbine Refurbishment and Commence Construction.
0900068 | NSPS | A, CC | COMS Data Collection and Reporting.
M090001 | MACT | R | Gasoline Distribution Terminals, MTBE (methyl tertiary butyl ether) Ban, Reduction of Potential to Emit.
M090005 | MACT | R | Gasoline Distribution Terminals, MTBE Ban, Reduction of Potential to Emit.
M090033 | MACT | YYYY | Existing Stationary Combustion Turbines.
M090034 | MACT | HHHHH | Process Vessels.
M090036 | MACT | RRR | Alternative Monitoring, Recordkeeping, and Reporting for Aluminum Scrap Shredder and Delacquering Kiln.
M090038 | MACT | IIII, ZZZZ | Reciprocating Internal Combustion Engines.
M090039 | MACT | PPPPPP | Performance Test Waiver Request.
M090040 | MACT | PPPPP | Performance Test Waiver Request.
M090041 | MACT | SS, WWWW | Closed Vent System Inspection.
M090042 | MACT | RRR | Testing Waiver for Ring Crusher.
M090043 | MACT | GGGGG | Ownership and Permitting Responsibility.
Z090003 | NESHAP | H | Alternative Monitoring for Insulated Valves.

Abstracts

Abstract for [0900038]

Q: Does EPA approve a request by the Hospital of Saint Raphael in New Haven, Connecticut, to derate its boiler from 31 MMBtu to below 30 MMBtu under 40 CFR part 60, subpart Dc?

A: Yes. EPA approves the request of the Hospital of Saint Raphael to derate its boiler to below 30 MMBtu under NSPS subpart Dc, provided that the hospital (1) replaces the oil burner in the boiler to reduce its capacity while operating on residual oil; and (2) modifies the natural gas fuel system by replacing the jets/nozzles to reduce its capacity while operating on natural gas.

Abstract for [0900039]

Q: Does EPA approve the request of DuPont Engineering Polymers (DuPont) to use sensory methods (sight, sound, and smell), under 40 CFR part 60, subpart VV, to detect leaks from equipment in acetic acid service at its facility in Chattanooga, Tennessee?

A: Yes. EPA approves DuPont's request based upon previous approvals under NSPS subpart VV for similar monitoring alternatives in Region 4 and the physical properties of acetic acid that allow leaks to be detected readily using sensory methods.

Abstract for [0900040]

Q: Does EPA approve the request of Solutia, Inc. to use an alternative method under 40 CFR part 60, subpart G, for certifying the nitrogen oxides monitoring system installed on its nitric acid plant in Gonzalez, Florida?

A: Yes. EPA approves Solutia's request for an alternative method based upon a previous approval under NSPS subpart G for a similar E.I. du Pont de Nemours nitric acid plant in Orange County, Texas.

Abstract for [0900041]

Q1: Does EPA approve the request to exempt certain areas at the J.E.D. Solid Waste Management Facility in St. Cloud, Florida, from the monthly gas collection well monitoring requirements in 40 CFR part 60, subpart WWW? Specific areas where a monitoring exemption is requested are haul roads, truck traffic areas, active areas, areas under construction, and slopes with a horizontal to vertical ratio of 3:1 or greater.

A1: EPA finds that the proposed exclusions, with the exception of the one for roads, are unacceptable. This determination is consistent with a previous Region 4 determination for the Three Rivers Landfill in Aiken County, South Carolina.

Q2: Does EPA approve a request to exclude monitoring of gas collection and control system components that have been raised between ten and twenty feet in the air at the active face of the landfill in order to accommodate a vertical expansion under 40 CFR part 60, subpart WWW?

A2: Yes. EPA finds that the company has legitimate safety concerns about monitoring these components under NSPS subpart WWW. Given the number of wells at the site, the majority of the wells will still be monitored on a monthly basis. In addition, based upon the operating life of the landfill, the duration of the proposed exemption will be relatively short.

Abstract for [0900042]

Q: Does EPA approve the request of Robert Bosch, LLC, to derate the capacity of a boiler at its Charleston, South Carolina facility so that it will no longer be subject to 40 CFR part 60, subpart Dc? The proposal includes the replacement of the boiler's existing burner with a new lower-rated burner to reduce the heat input capacity to less than 10 million Btu/hour.

A: Yes. EPA approves the request as it complies with the policy on derates under NSPS subpart Dc.

Abstract for [0900043]

Q: Does EPA approve a request for an alternative opacity monitoring procedure for a boiler under 40 CFR part 60, subpart Db, at Unilin Flooring's thin high-density fiberboard plant in Mt. Gilead, North Carolina?

A: Based upon the operation of the Mt. Gilead plant, EPA approves the request to use a combination of EPA Methods 9 and 22 under NSPS subpart Db to monitor opacity from the heating plant's startup/shutdown/idle stack when the facility's regenerative thermal oxidizer is shut down for maintenance. However, EPA does not approve the request to delay the collection of EPA Method 9 data for up to 24 hours when the presence of visible emissions is detected using Method 22.

Abstract for [0900044]

Q: Does EPA approve the request of the Oak Ridge National Laboratory to use a predictive emission monitoring system (PEMS), under 40 CFR part 60, subpart Db, for measuring nitrogen oxides during oil combustion in Boiler No. 6 at its Oak Ridge, Tennessee facility?

A: Yes. EPA approves the request for a PEMS under NSPS subpart Db based upon the results of a relative accuracy test audit conducted at the plant on September 25, 2008.

Abstract for [0900045]

Q: Does EPA agree that the owner/operator of the Trail Ridge Landfill in Baldwin, Florida, may unilaterally establish alternative temperature limits for gas collection wells under 40 CFR part 60, subpart WWW?

A: No. Based upon the language in NSPS subpart WWW and guidance issued by EPA, the State of Florida must approve alternative temperature limits for gas collection wells.

Abstract for [0900046]

Q: Does EPA approve Kentucky Utility's request under 40 CFR part 60, subpart D, to install a particulate matter continuous emission monitoring system (PM CEMS) as an alternative to a continuous opacity monitoring system (COMS) on Unit 4 of its facility in Ghent, Kentucky?

A: Yes. NSPS subpart D contains provisions allowing owners/operators to petition to use a PM CEMS as an alternative to COMS. Under the delegation of authority for subpart D, the Kentucky Department of Environmental Protection is authorized to approve such proposals. Because the use of PM CEMS is relatively new, this determination includes suggestions for conditions that should be imposed as part of the approval process.

Abstract for [0900047]

Q: Does EPA approve a request by Georgia Power Company (GPC) to delay the initial particulate matter (PM) performance test for a limestone unloading operation under 40 CFR part 60, subpart OOO, at its Plant Bowen in Cartersville, Georgia?

A: Conditional. Because it will be difficult to complete a three-run PM performance test in a reasonable period of time until at least three of the four scrubbers at Plant Bowen are operating, a temporary delay of the initial test would be acceptable, under NSPS subpart OOO, provided that GPC supplies other data that provide reasonable assurance of compliance with the applicable limit. As the terms GPC proposes in justifying the waiver will not provide adequate assurance of compliance, the letter outlines a series of conditions under which a temporary waiver of the PM performance test would be acceptable under subpart OOO.

Abstract for [0900048]

Q: Does EPA approve a request by Johns Manville for an alternative monitoring approach under 40 CFR part 60, subpart PPP, for a wet electrostatic precipitator (ESP) that controls particulate emissions from a process line at its wool fiberglass manufacturing plant in Winder, Georgia?

A: Yes. Because the liquid used in the ESP on this process line is not recycled, the solids content of the water is inherently low. Given this and given the substantial margin of compliance during the three most recent performance tests conducted on the process line, verifying that only once-through municipal water is used in the ESP is an acceptable alternative, under NSPS subpart PPP, to monitoring the solids content of the water.

Abstract for [0900049]

Q: Does EPA approve a request by Waste Management Company to extend the deadline for correcting pressure exceedances, under 40 CFR part 60, subpart WWW, for six gas collection wells at its Outer Loop Landfill in Louisville, Kentucky?

A: Yes. Given the suspected cause of the pressure exceedances (water buildup in the header line for the wells), the NSPS subpart WWW requirement to install additional collection wells if the exceedances cannot be corrected within 15 days is unlikely to correct the exceedances. The proposal to use a camera to pinpoint the location of water buildup in the line and to either regrade the line or run a jumper line to a vacuum source with enough capacity to clear the line is more likely to correct the exceedances. Therefore, EPA approves extending the subpart WWW deadline for correcting exceedances.

Abstract for [0900050]

Q: Does EPA approve the request of the Ergon Refining facility in Vicksburg, Mississippi, for alternative hydrogen sulfide monitoring for a fuel gas stream generated in the pressure swing absorber (PSA) under 40 CFR part 60, subpart J?

A: Yes. EPA approves the request. Because both of the feed streams for the PSA unit are treated to remove sulfur, the likelihood that hydrogen sulfide will be present in the vent stream from the unit is extremely low. Thus, it is acceptable under NSPS subpart J to install a continuous monitor on the vent stream from the PSA unit.

Abstract for [0900052]

Q: Does EPA approve a request from Waste Management Company (WMC) to reconfigure, under 40 CFR part 60, subpart WWW, six gas collection wells at its Iris Glen Landfill in Johnson City, Tennessee, by replacing the six existing vertical extraction wells with a horizontal collector?

A: Yes. EPA approves the request because WMC proposes to replace one landfill gas collection device (vertical wells) with a gas collection device (a horizontal collector), which is acceptable under NSPS subpart WWW. In the event that exceedances of the 500 parts per million methane surface concentration limit are identified during future monitoring at the site, WMC will need to either adjust the system to meet the limit or install additional wells to improve the performance of the collection system.

Abstract for [0900053]

Q: Does EPA approve the request of Eastman Chemical Company for alternative monitoring under 40 CFR part 60, subpart VV, of equipment in diketene service at its Kingsport, Tennessee facility?

A: Yes. EPA approves this request because a review of this proposal and similar previous proposals for the Kingsport plant show that leaks will be detected and repaired more quickly under the proposed alternative monitoring approach than they would be under the monitoring procedures specified in NSPS subpart VV.

Abstract for [0900054]

Q: Is the nitrogen oxides predictive emission monitoring system (PEMS) proposed for Boiler No. 6 at the Oak Ridge National Laboratory (ORNL) in Oak Ridge, Tennessee, an acceptable alternative to a continuous emission monitoring system (CEMS) under 40 CFR part 60, subpart Db?

A: Conditional. Based upon a review of relative accuracy test audit (RATA) results provided by ORNL, the PEMS will be an acceptable alternative, under NSPS subpart Db, to a CEMS when the primary fuel (natural gas) for the boiler is used. In order for the PEMS to be approved as an alternative to a CEMS when the backup fuel (No. 2 fuel oil) for the boiler is used, ORNL will need to supply RATA results for the backup fuel.

Abstract for [0900056]

Q: Neill Grading & Construction Company (Neill Grading) in Hickory, North Carolina, proposes to derate the capacity of a portable jaw crusher to avoid applicability of 40 CFR part 60, subpart OOO. Neill Grading proposes to use shims to restrict the size of the crusher discharge opening and reduce the capacity. Does EPA approve this proposed means of derating?

A: No. EPA does not approve this proposed means for derating because it does not constitute a permanent physical reduction in the capacity of the crusher. Jaw crushers are designed with adjustable shims to enable operation at various throughput settings, and each particular discharge setting or adjustment in the shims does not constitute a permanent physical restriction in the maximum capacity. The design capacity of the crusher is used to determine applicability of NSPS subpart OOO, rather than the intended throughput capacity an owner or operator proposes to utilize.

Abstract for [0900057]

Q: Would the replacement of three regenerative thermal oxidizers (RTO) with a single RTO system on three pressure sensitive vinyl/paper roll coating lines trigger the performance test requirements of 40 CFR part 60, subparts A and RR, at Avery Dennison's facility in Lowell, Indiana?

A: No. NSPS subpart RR applies to any affected facility that begins construction, modification, or reconstruction after December 30, 1980. Because no construction, modification, or reconstruction appears to have occurred, NSPS requirements have not been triggered. A modification could occur if the new RTO system proves to be less efficient than the old RTO system at controlling volatile organic compounds.

Abstract for [0900058]

Q: Is the methane gas to electrical energy gas processing facility that Industrial Power Generating Company (INGENCO) proposes to construct at the CDT landfill located in Joliet, Illinois, considered a treatment system under 40 CFR part 60, subpart WWW?

A. Yes. EPA considers filtering of the gas through a 10 micron screen to reduce particulate matter, de-watering of the gas using chillers or other dehydration equipment to reduce moisture content, and compression using gas blowers or similar devices to further reduce moisture content and raise gas pressure as “treatment” when the gas is used in an energy recovery project. INGENCO's CDT facility appears to meet these requirements under current NSPS subpart WWW. Once the gas has been treated and sent to the internal combustion (IC) engines, it is no longer subject to the NSPS requirements. However, once proposed amendments to NSPS subpart WWW regarding treatment systems are finalized, INGENCO may have to comply with new or additional requirements regarding landfill gas treatment systems.

Abstract for [0900059]

Q: Does EPA approve the request of the Roxana Landfill (Roxana) in Roxana, Illinois, for several alternative timelines to bring certain specified wells that were unable to perform the required monitoring for May 2008 into compliance under 40 CFR part 60, subpart WWW?

A: Yes. Roxana was unable to perform the required monitoring for May 2008 for landfill gas extraction wells 9, 36, 41, 44, and 47 due to unsafe conditions in the area of these wells. EPA approves the request to exempt these wells under NSPS subpart WWW for one month of monitoring only because of the safety issues and because the request covers a small percentage of the total wells at the site for a relatively short time period. EPA will grant Roxana alternative compliance timelines of various lengths to correct operating parameter exceedances at several other wells.

Abstract for [0900060]

Q: Will processes prior to combustion at the proposed methane gas to electrical energy processing facility at Waste Management's Settler's Hill Recycling and Disposal Facility (Settler's Hill) in Batavia, Illinois, be considered a treatment facility under 40 CFR part 60, subpart WWW?

A. Yes. EPA considers filtering of the gas through a 10-micron screen to reduce particulate matter, de-watering of the gas using chillers or other dehydration equipment to reduce moisture content, and compression using gas blowers or similar devices to further reduce moisture content and raise gas pressure as “treatment” when the gas is used in an energy recovery project. Waste Management's proposed facility at Settler's Hill appears to meet these requirements under current NSPS subpart WWW. Once the gas has been treated and sent to the IC engines, it is no longer subject to the NSPS requirements. However, once proposed amendments to NSPS subpart WWW regarding treatment systems are finalized, Settler's Hill may have to comply with new or additional requirements regarding landfill gas treatment systems.

Abstract for [0900061]

Q: Is Upper Rock Island County Landfill (Upper Rock) in East Moline, Illinois, required under 40 CFR part 60, subpart WWW, to install a landfill gas collection and control system at this time?

A. No. A June 2006 Tier 2 five-year re-test at Upper Rock showed that emissions were 59.49 Mg/year. The facility submitted a Gas Collection and Control Design Plan to Illinois in July 2007. In August 2007, EPA approved Upper Rock to conduct additional Tier 2 testing to update the June 2006 values because the site had met all the other NSPS reporting obligations in a timely manner. The testing was conducted February 13, 2008, and the facility emissions were 11.24 Mg/year, which is less than the 50 Mg/year NMOC emission threshold for installing controls under NSPS subpart WWW.

Abstract for [0900062]

Q: Does EPA approve the request of the Winnebago Reclamation Service Landfill (Winnebago) for an alternative timeline under 40 CFR part 60, subpart WWW, to correct a positive pressure exceedance exhibited on June 2, 2008, at Well GW191 of its Rockford, Illinois facility?

A: Yes. EPA approves Winnebago's request, but only until July 17, 2008. Winnebago originally requested an alternative timeline until September 30, 2008, due to plugging of the lateral. However, on July 17, 2008, the facility informed EPA that the well came back into compliance on July 8, 2008.

Abstract for [0900063]

Q: Will the processes prior to combustion at the methane gas to electrical energy processing facility proposed at Waste Management's Woodland Recycling and Disposal Facility (Woodland) in South Elgin, Illinois, be considered a treatment facility under 40 CFR part 60, subpart WWW?

A. Yes. EPA considers filtering of the gas through a 10-micron screen to reduce particulate matter, de-watering of the gas using chillers or other dehydration equipment to reduce moisture content, and compression using gas blowers or similar devices to further reduce moisture content and raise gas pressure as “treatment” when the gas is used in an energy recovery project. Waste Management's proposed facility in South Elgin appears to meet these requirements under current NSPS subpart WWW. Once the gas has been treated and sent to the IC engines, it is no longer subject to the NSPS requirements. However, once proposed amendments to NSPS subpart WWW regarding treatment systems are finalized, Woodland may have to comply with new or additional requirements regarding landfill gas treatment systems.

Abstract for [0900064]

Q1: Does EPA approve adjusted standards under 40 CFR part 60, subpart WWW, for oxygen and pressure at five gas extraction locations at Veolia Environmental Services Zion Landfill in Zion, Illinois?

A1: For the three vertical gas extraction wells, the pressure and oxygen exceedances are due to declining gas quality and gas production in an area of older waste. EPA will approve adjusted standards for these wells under NSPS subpart WWW. These locations may remain shut off, under positive pressure, with monthly monitoring and periodic adjustment to vacuum to remove accumulated landfill gas. However, EPA will not approve alternative standards for the two horizontal trenches in question because these points appear to not be meeting the standards because of operational problems and not because of low gas production or low gas quality inherent in the waste.

Q2: Does EPA approve an alternative timeline under 40 CFR part 60, subpart WWW, to correct oxygen exceedances at a sixth well at Veolia Environmental Services Zion Landfill in Zion, Illinois?

A2: Yes. EPA approves an alternative timeline of 90 days only under NSPS subpart WWW to correct the oxygen exceedance.

Abstract for [0900067]

Q1. Does work performed on a stationary gas turbine owned by CenterPoint Energy Gas Transmission at a compressor station in Morrilton, Arkansas, that is subject to 40 CFR part 60, subpart KKKK, and that included moving the turbine to a new site, qualify the turbine as a new source?

A1. No. Relocation in and of itself does not trigger applicability. Further, because only portions of the affected facility as defined in NSPS subpart KKKK were replaced, it does not appear that a new affected facility was constructed.

Q2. Is the turbine modified?

A2. It is not clear whether the turbine has been modified, as the submission does not include sufficient information to evaluate whether emissions at the affected facility increased.

Q3. Does overhauling and uprating the turbine with old and new parts constitute reconstruction?

A3. The request letter does not contain sufficient information to make a determination about whether this is reconstruction. The cost of the new and old components that were added to the affected facility is included in the reconstruction analysis. Equipment that is outside of the affected facility is not included in the reconstruction calculation. Reconstruction involves consideration of whether it is technically and economically feasible to meet the applicable standards.

Q4. Does the Letter of Authorization (LOA) with the manufacturer to purchase the turbine constitute commencement of construction? The letter predates the applicability date for 40 CFR part 60, subpart KKKK.

A4. No. The LOA does not require the type of activities that commence construction. Planning work does not commence construction, and contracts for services such as site preparation, planning, engineering, or architectural drawings do not constitute a contractual obligation for construction within the meaning of NSPS subpart KKKK.

Abstract for [0900068]

This letter addresses the following questions from Saint-Gobain Containers, relative to COMS requirements in NSPS subparts A and CC.

Q1: Are glass furnaces under the NSPS required to base their six-minute opacity averages on 36 or 24 data points?

A1: The opacity value determined under 40 CFR 60.263(c)(4) is based on 24 data points, as specified at 40 CFR 60.293(c)(3). The ongoing COMS opacity monitoring averages are based on 36 data points, consistent with 60.13(h)(1).

Q2: Does proposed Method 203 for Part 51 or state guidance, both of which require 83-percent minimum data availability, apply to NSPS subpart CC?

A2: No. However, states may impose minimum data availability requirements that are more stringent than the NSPS.

Q3: Is a minimum of 24 valid data points always required for 40 CFR 60.293(c)(3), even if more are sought?

A3: Yes. However, all valid data should be used in calculating the six-minute averages.

Q4: Can the first and final readings of a six-minute COMS reading be missed and still satisfy the requirement that COMS data points be equally spaced over each six-minute period?

A4: Under 40 CFR 60.13(h)(1) for COMS, a valid reading is required every 10 seconds, at a minimum, for each six-minute period.

Q5: Does CMS downtime include periods when COMS data is interrupted for daily calibration or zero/span adjustment?

A5: The term “CMS downtime” as used in the summary reports at 40 CFR 60.7(d) includes downtime due to calibration. The reporting requirements of 40 CFR 60.7(c) exclude zero and span checks from reported periods of CMS inoperation.

Q6: Does CMS downtime include periods when the COMS is offline due to furnace shutdown?

A6: No. CMS downtime does not include periods when the COMS is offline due to furnace shutdown.

Abstract for [M090001]

Q: Are Motiva Enterprises LLC's gasoline distribution terminals in Bridgeport and New Haven, Connecticut, still subject to 40 CFR Part 63, subpart R, if Connecticut banned the sale of gasoline containing methyl tertiary butyl ether (MTBE) and the facility is no longer a major hazardous air pollutants (HAP) source?

A: Yes. EPA concludes that the Motiva Enterprises' Bridgeport and New Haven Terminals remain subject to NESHAP subpart R, because they were a major source of HAP on the first substantive compliance date of the NESHAP regardless of the level of their potential to emit after that date.

Abstract for [M090005]

Q. Is Motiva Enterprises LLC's gasoline distribution terminal in Providence, Rhode Island, still subject to 40 CFR Part 63, subpart R, if Rhode Island banned the sale of gasoline containing MTBE and the facility is no longer a major HAP source?

A. Yes. EPA concludes that Motiva Enterprises' Providence Terminal remains subject to NESHAP subpart R, because it was a major source of HAP on the first substantive compliance date of the NESHAP regardless of the level of its potential to emit after that date.

Abstract for [M090033]

Q1. Does 40 CFR part 63, subpart YYYY, apply to the existing stationary combustion turbines at Lake Road Generating Company, in Killingly, Connecticut (Lake Road)?

A1. Yes. EPA finds that MACT subpart YYYY applies to the existing stationary combustion turbines at Lake Road but that it does not at this time impose any requirements on these units.

Q2. Does EPA find that Lake Road is a major source of HAP emissions under MACT subpart YYYY?

A2. Yes. EPA has determined that Lake Road does not have a federally enforceable limit on its potential to emit or a state-enforceable, practically enforceable limit on its potential to emit. Therefore, Lake Road is currently considered a “major source” of HAP emissions that is subject to MACT subpart YYYY.

Abstract for [M090034]

Q. Is a portable 125 gallon mixer at the ITW Devcon/Plexus facility in Danvers, Massachusetts, part of an affected source under 40 CFR part 63, subpart HHHHH?

A. No. EPA has determined that because the portable mixer has a capacity of less than 250 gallons, the portable mixer does not meet the definition of “process vessel,” which is considered equipment that is part of an affected source under MACT subpart HHHHH. Additionally, as the portable mixer does not meet any other criteria for inclusion in the affected source, it is not part of the affected source under subpart HHHHH.

Abstract for [M090036]

Q: Does Aleris International's proposal for alternative methodologies to conduct stack testing, monitoring, recordkeeping, and reporting for the aluminum scrap shredder and delacquering kiln at its facility in Uhrichsville, Ohio, comply with the requirements of 40 CFR part 63, subpart RRR?

A: Yes. Aleris International's proposal for alternative methodologies to conduct stack testing, monitoring, recordkeeping, and reporting for the aluminum scrap shredder and delacquering kiln complies with MACT subpart RRR. EPA approves the proposed method for determining the delacquering kiln feed/charge weight during testing for the aluminum scrap shredder and delacquering kiln. EPA also approves using twelve-hour shifts for the shredder feed/charge weight during normal operations and keeping the delacquering kiln feed/charge rate in twelve-hour shifts.

Abstract for [M090038]

Q1: Does 40 CFR part 63, subpart ZZZZ, apply to non-road, non-stationary reciprocating internal combustion engines located at a major source of hazardous air pollutants?

A1: No. MACT subpart ZZZZ does not apply to non-road, non-stationary reciprocating internal combustion engines located at a major source of hazardous air pollutants.

Q2: Does 40 CFR part 60, subpart IIII, apply to non-road, non-stationary reciprocating internal combustion engines?

A2: No. NSPS subpart IIII does not apply to non-road, non-stationary reciprocating internal combustion engines.

Abstract for [M090039]

Q1: Does EPA approve a request to waive the performance testing requirements of 40 CFR part 63, subpart PPPPPP, for two Hardinage ball mills at the Johnson Controls Battery Group (Johnson Controls) facility in Holland, Ohio, based upon the performance test results from similar affected sources at Johnson Controls facility in Tampa, Florida?

A1: No. EPA does not approve the request under MACT subpart PPPPPP. The affected sources are located at different facilities in different states, and maximum production capacities differ by 400-pounds per hour. Also, Johnson Controls has not conducted a performance test at the Tampa affected facilities since November 2002.

Q2: Does EPA approve a request from Johnson Controls to use the performance test results from two cast-on-strap (COS) lines to demonstrate compliance under 40 CFR part 63, subpart PPPPPP, for the four other COS lines at its facility in Holland, Ohio?

A2: No. EPA does not approve this request under MACT subpart PPPPPP. Johnson Controls did not submit a copy of any test reports for any of the COS lines and did not submit any information to demonstrate that the six COS lines were produced by the same manufacturer, have the same model number or other manufacturer's designation in common, and have the same rated capacity and operating specifications.

Abstract for [M090040]

Q: Will EPA reconsider its September 25, 2008, disapproval of a request to waive the stack testing requirements for six cast-on-strap lines at Johnson Controls Battery Group's lead acid battery facility in Holland, Ohio?

A: No. Johnson Controls Battery Group has not demonstrated that the performance tests are impractical or technically or economically infeasible. EPA affirms its previous decision.

Abstract for [M090041]

Q: Does EPA waive the closed vent system inspection procedures using Method 21 of 40 CFR part 60 for add-on air pollution control equipment subject to 40 CFR part 63, subparts WWWW and SS, given that EPA has made such a determination with respect to 40 CFR part 261, subpart CC?

A: No. EPA has previously determined that when waste management units are required to use air emissions control under both RCRA and CAA NESHAP, it is unnecessary for owners and operators of those waste management units subject to air standards under both sets of rules to perform duplicative testing and monitoring, keep duplicative sets of records, or perform other duplicative actions. Given no applicable RCRA air regulations, EPA finds that the facts here do not justify waiving the closed vent inspection procedures using Method 21.

Abstract for [M090042]

Q: Does EPA approve the request of Aleris International for a waiver of the performance testing required for scrap shredders under 40 CFR part 63, subpart RRR, for the ring crusher at its Wabash Alloys facility in Wabash, Indiana?

A: Yes. EPA approves the request under MACT subpart RRR, as the facility has demonstrated that it is technically infeasible to use Method 5 to measure emissions. Because Method 9 visible emissions readings showed uncontrolled opacity far below the limit for a controlled source, this provides assurance that the ring crusher is in continuous compliance with the PM standard.

Abstract for [M090043]

Q: Is Spirit Aerosystems (Spirit) responsible under 40 CFR part 63, subpart GGGGG, for remediation activities conducted and controlled by Boeing on Spirit Aerosystems' property?

A: No. This is a unique situation in which Boeing is legally responsible for compliance with MACT subpart GGGGG. Although Spirit purchased the existing site from Boeing, Boeing retained ownership of the remediation unit “facilities” located on the site, along with the environmental liability. Prior to Spirit's purchase of the property, a Kansas Department of Health and Environment Consent Order was signed requiring Boeing to conduct remediation activities at the site.

Abstract for [Z090003]

Q: Does EPA approve the request of Dow Chemical Company (Dow) to use insulation plugs to access the insulated valve stem interface for valves subject to 40 CFR part 63, subpart H, at its Midland, Michigan facility?

A: Yes. EPA approves Dow's request. Using insulation plugs is a feasible and adequate way under MACT subpart H of monitoring the insulated valves at Dow's Midland plant site while still maintaining the integrity and functionality of the insulation.

Dated: November 5, 2009.
Lisa Lund,
Director, Office of Compliance.

[FR Doc. E9-29067 Filed 12-4-09; 8:45 am]

BILLING CODE 6560-50-P